Title 3—

The President

Proclamation 10669 of November 7, 2023

Veterans Day, 2023

By the President of the United States of America

A Proclamation

This Veterans Day, we honor the generations of women and men who have served and sacrificed—not for a person, a place, or a President—but for an idea unlike any other: the idea of the United States of America. For nearly 250 years, our veterans have defended the values that make us strong so that our Nation could stand as a citadel of liberty, a beacon of freedom, and a wellspring of possibilities.

Today, I am thinking of all our Nation's veterans, who put their lives on the line to protect our democracy, values, and freedom around the world. We honor our wounded warriors, so many of whom the First Lady and I have met over the years, who are bound by a common sense of duty, courage, and optimism, and we remember those who are still missing in action or prisoners of war and renew my pledge to bring them home. Our military families, caregivers, and survivors also answer the call to serve. I remember so clearly the pride I felt in our son Beau during his service in Iraq as well as those mornings I saw the First Lady saying a prayer for his safe return. Our veterans and their families give so much to our Nation, and we owe them a debt we can never fully repay.

As a Nation, we have many obligations, but we only have one truly sacred obligation: to prepare and equip the brave women and men we send into harm's way and to care for them and their loved ones when they return home. Since the beginning of my Administration, we have worked to make good on that promise, passing nearly 30 bipartisan laws to support our veterans and service members and their families, caregivers, and survivors. That includes the PACT Act—the most significant effort in our Nation's history to help millions of veterans exposed to toxic substances during their military service. Since I signed the PACT Act into law last year, more than 478,000 veterans and survivors are already receiving benefits—ensuring that veterans exposed to burn pits and other harmful substances and their loved ones get access to the care and support they need.

My Administration is also committed to ending veteran suicide and homelessness and ensuring that our veterans have the resources they need to live full lives and thrive in their communities. We released a national strategy to reduce military and veteran suicide by improving lethal means safety and enhancing crisis care as well as by addressing the economic, legal, and mental health issues that impact veterans. The Department of Veterans Affairs is also funding community-led suicide prevention programs, which help connect veterans and their families to needed services. Every veteran deserves a roof over their head, which is why we have taken bold actions to end veteran homelessness, permanently housing more than 40,000 veterans last year and investing $1 billion to provide supportive services to help homeless and at-risk veterans and their families. My Budget also proposes tripling the number of rental-assistance vouchers for extremely low-income veterans to prevent homelessness. Further, we have taken steps to improve the economic security of veterans and their families by expanding job training programs for transitioning veterans and their spouses and issuing rules to protect them from predatory educational institutions. We are also working to ensure every veteran has access to the benefits and services they have earned.

Earlier this year, I signed an Executive Order directing more than 50 actions to improve access to child care and long-term care for Americans, including military and veteran families, and to support family caregivers, especially those who care for our veterans. Recognizing the talents and contributions of veteran and military spouses, caregivers, and survivors to our workforce, I signed an Executive Order establishing the most comprehensive set of administrative actions in our Nation's history to support their economic security—increasing training and employment opportunities for military spouses in the workforce throughout the transition to veteran spouses status and encouraging all Federal agencies to do more to retain military and veteran spouses through flexible policies. The First Lady's Joining Forces initiative is further supporting military and veteran families, caregivers, and survivors by improving economic opportunities and expanding resources to promote health and well-being for this community.

As we mark the 50th anniversary of an all-volunteer force and the 75th anniversary of the full integration of women in the Armed Forces and the desegregation of the troops, my Administration reaffirms our commitment to supporting everyone who serves in our Armed Forces. We have taken steps to ensure that the more than 918,000 women veterans enrolled in the Department of Veterans Affairs health care have equitable access to benefits and health services, in part by expanding access to reproductive health care. We have worked to proactively review the military records of veterans discharged under “Don't Ask, Don't Tell” and to modernize the process of upgrading discharges to help all veterans access their earned benefits. We will continue to support our LGBTQI+ veterans and veterans of color who have made innumerable contributions to our Nation and have truly made our military stronger, tougher, and more capable.

This Veterans Day, may we honor the incredible faith that our veterans hold, not just in our country but in all of us. They are the solid-steel backbone of our Nation, and we must endeavor to continue being worthy of their sacrifices by working toward a more perfect Union and protecting the freedoms that they have fought to defend.

In respect and recognition of the contributions our veterans and their families, caregivers, and survivors have made to the cause of peace and freedom around the world, the Congress has provided (5 U.S.C. 6103(a)) that November 11 of each year shall be set aside as a legal public holiday to honor our Nation's veterans.

NOW, THEREFORE, I, JOSEPH R. BIDEN JR., President of the United States of America, do hereby proclaim November 11, 2023, as Veterans Day. I encourage all Americans to recognize the valor, courage, and sacrifice of these patriots through appropriate ceremonies and private prayers and by observing two minutes of silence for our Nation's veterans. I also call upon Federal, State, and local officials to display the flag of the United States of America and to participate in patriotic activities in their communities.

IN WITNESS WHEREOF, I have hereunto set my hand this seventh day of November, in the year of our Lord two thousand twenty-three, and of the Independence of the United States of America the two hundred and forty-eighth.

[FR Doc. 2023-25056

Filed 11-9-23; 8:45 am]

Billing code 3395-F4-P